DEPARTMENT OF COMMERCE

National Oceanic and Atmospheric Administration

[RTID 0648-XA181]

Pacific Fishery Management Council; Public Meeting

AGENCY: National Marine Fisheries Service (NMFS), National Oceanic and Atmospheric Administration (NOAA), Commerce.

ACTION: Notice of public meeting.

SUMMARY: The Pacific Fishery Management Council's (Pacific Council) Salmon Advisory Subpanel (SAS) will host an online meeting to discuss and develop statements related to topics on the Pacific Council's June 2020 meeting agenda. This meeting is open to the public.

DATES: The meeting will be held Monday, June 8, 2020, from 1:30 p.m. until 3:30 p.m., Pacific Daylight Time, or until business is complete.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at 503-820-2412 for technical assistance.

Council address: Pacific Fishery Management Council, 7700 NE Ambassador Place, Suite 101, Portland, OR 97220-1384.

FOR FURTHER INFORMATION CONTACT: Robin Ehlke, Staff Officer, Pacific Council; telephone: (503) 820-2410; email: robin.ehlke@noaa.gov.

SUPPLEMENTARY INFORMATION: Major topics include, but are not limited to salmon related topics: Southern Oregon/Northern California Coast Coho Environmental Species Act consultation update; Southern Resident Killer Whale consultation update; and the Salmon Fishery Management Plan Amendment 20: Annual Management Schedule and Boundary Change Range of Alternatives and Preliminary Preferred Alternatives. The group may also address one or more of the Pacific Council's scheduled administrative matters, habitat issues, groundfish, and future workload planning topics. Public comments during the online meeting will be received from attendees at the discretion of the SAS Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: May 18, 2020.
Tracey L. Thompson,
Acting Deputy Director, Office of Sustainable Fisheries, National Marine Fisheries Service.

[FR Doc. 2020-11006 Filed 5-20-20; 8:45 am]

BILLING CODE 3510-22-P